DEPARTMENT OF TRANSPORTATION

Federal Aviation Administration

Advisory Circular (AC) 20-159, Obtaining Design and Production Approval of Airport Moving Map Display Applications Intended for Electronic Flight Bag Systems

AGENCY: Federal Aviation Administration (DOT).

ACTION: Notice of intent to cancel AC 20-159, Obtaining Design and Production Approval of Airport Moving Map Display Applications Intended for Electronic Flight Bag Systems.

SUMMARY: This notice announces the Federal Aviation Administration's (FAA) intent to cancel AC 20-159. This cancellation will result in no new approval of technical standard order authorizations (TSOA) for an “incomplete system” issued for Technical Standard Order (TSO) C-165, Electronic Map Display Equipment for Graphical Depiction of Aircraft Position. Therefore, the guidance contained in AC 20-159 allowing applicants to obtain a design and production approval using the software and database for an airport moving map display (AMMD) intended for use on a Class 2 electronic flight bag (EFB) for ground operations, will no longer be available. FAA AC 120-76C, Guidelines for the Certification, Airworthiness, and Operational Use of Electronic Flight Bags, dated May 9, 2014, replaces AC 20-159 and provides guidance for applicants seeking authorization to display an own-ship symbol limited to the airport surface as a Type B application for use on any EFB.

FOR FURTHER INFORMATION CONTACT: To obtain additional details, please contact: Mr. Brad Miller, AIR-130, Federal Aviation Administration, Aircraft Certification Service, Systems and Equipment Standards Branch, 470 L'Enfant Plaza Suite 4102, Washington, DC 20024, Telephone (202) 267-8533, FAX: (202) 267-267-8589, Email: brad.miller@faa.gov.

SUPPLEMENTARY INFORMATION:

Background

In mid-March 2007, the FAA Administrator directed FAA to publish guidance by the end of April 2007 to facilitate the use of an AMMD application on EFBs and to streamline the certification means to deploy this safety enhancement to address airport runway incursions. AC 20-159 provided EFB AMMD applicant guidance to obtain TSO-C165 software-only TSO authorization requiring the need to obtain a design or production approval. However, AC 120-76C later introduced guidance to necessitate only an operator-based evaluation submitted to an FAA inspector for EFB hardware and software application authorization. The FAA envisions all new authorizations for use of AMMD functionality on EFBs be obtained under AC 120-76C as a Type B application.

Issued in Washington, DC, on June 30, 2015.
Susan J.M. Cabler,
Acting Manager, Design, Manufacturing, & Airworthiness Division, Aircraft Certification Service.

[FR Doc. 2015-16556 Filed 7-6-15; 8:45 am]

BILLING CODE 4910-13-P